SECURITIES AND EXCHANGE COMMISSION

[Release No. IC-24964]

Notice of Applications for Deregistration Under Section 8(f) of the Investment Company Act of 1940

April 27, 2001.

The following is a notice of applications for deregistration under section 8(f) of the Investment Company Act of 1940 for the month of April, 2001. A copy of each application may be obtained for a fee at the SEC's Public Reference Branch, 450 Fifty St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on May 22, 2001, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus, at (202) 942-0564, SEC, Division of Investment Management, Office of Investment Company Regulation, 450 Fifth Street, NW., Washington, DC 20549-0506.

Firstmark Partners Contrarian Value Fund [File No. 811-9109]

Summary: Applicant seeks an order declaring that it has ceased to be an investment company. On December 21, 2000, applicant made a liquidating distribution to its shareholders based on net asset value. Expenses of approximately $3,800 incurred in connection with the liquidation were paid by applicant's investment adviser, Firststock Financial Services, Inc.

Filing Dates: The application was filed on March 7, 2001, and amended on April 18, 2001.

Applicant's Address: 5212 Underwood Ave., Omaha, NE 68132.

Circle Income Shares, Inc. [File No. 811-2378]

Summary: Applicant, a closed-end investment company, seeks an order declaring that it has ceased to be an investment company. On January 22, 2001, applicant transferred its assets to One Group Mutual Funds based on net asset value. Expenses of $123,169 were incurred in connection with the reorganization. Applicant and the acquiring fund each were responsible for their own reorganizational expenses. Bank One Investment Advisors Corporation, the acquiring fund's investment adviser, assumed the costs of certain expenses, including proxy solicitation and legal expenses.

Filing Date: The application was filed on April 6, 2001.

Applicant's Address: PO Box 77004, Indianapolis, IN 46277-7004.

Imperial Special Investments, Inc. [File No. 811-9919]

Summary: Applicant, a closed-end investment company, seeks an order declaring that it has ceased to be an investment company. On March 26, 2001, applicant made a liquidating distribution to its shareholders based on net asset value. Expenses of $16,600 incurred in connection with the liquidation were paid by applicant.

Filing Date: The application was filed on April 4, 2001.

Applicant's Address: 9920 S. La Cienega Blvd., Suite 636, Inglewood, CA 90301.

Bearguard Funds, Inc. [File No. 811-9291]

Summary: Applicant seeks an order declaring that it has ceased to be an investment company. On April 2, 2001, applicant made a liquidating distribution to its shareholders based on net asset value. Expenses of $8,500 incurred in connection with the liquidation were paid by applicant's investment adviser, Skye Investment Advisers LLC.

Filing Date: The application was filed on April 4, 2001.

Applicant's Address: 985 University Avenue, Suite 26, Los Gatos, CA 95032.

Kemper Bond Enhanced Securities Trust, Series 1 and Subsequent Series [File No. 811-4382]

Summary: Applicant, a unit investment trust, seeks an order declaring that it has ceased to be an investment company. On September 8, 1999, applicant made a final liquidating distribution to its shareholders based on net asset value. Applicant incurred no expenses in connection with the liquidation.

Filing Date: The application was filed on March 30, 2001.

Applicant's Address: 250 North Rock Road, Suite 150, Wichita, KA 67206-224.

IGAM Group Funds [File No. 811-9493]

Summary: Applicant seeks an order declaring that it has ceased to be an investment company. On February 15, 2001, applicant made a liquidating distribution to its shareholders based on net asset value. Applicant incurred no expenses in connection with the liquidation.

Filing Date: The application was filed on March 27, 2001.

Applicant's Address: 24 Salt Pond Road, South Kingstown Office Park, Suite A5, Wakefield, RI 02879.

Income Opportunities Fund 2000, Inc. [File No. 811-7240]

Summary: Applicant, a closed-end investment company, seeks an order declaring that it has ceased to be an investment company. On December 27, 2000, applicant made a liquidating distribution to its shareholders based on net asset value. As of April 6, 2001, applicant still had 20 shareholders who have not redeemed their shares. The Bank of New York is holding any unclaimed funds, which will escheat to each shareholder's state of residence after the applicable holding period. Expenses of $35,133 incurred in connection with the liquidation were paid by applicant.

Filing Dates: The application was filed on February 23, 2001, and amended on April 18, 2001,

Applicant's Address: Merrill Lynch Investment Managers, LLP, 800 Scudders Mill Road, Plainsboro, NJ 08536.

State Farm Balanced Fund, Inc. [File No. 811-1520]

State Farm Interim Fund, Inc. [File No. 811-2726]

State Farm Municipal Bond Fund, Inc. [File No. 811-2727]

Summary: Each applicant seeks an order declaring that it has ceased to be an investment company. On April 1, 2001, each applicant transferred its assets to a corresponding series of State Farm Associates' Funds Trust based on net asset value. Expenses of $66,928, $7,878, and $25,025, respectively, incurred in connection with the reorganizations were paid by each applicant.

Filing Dates: The applications were filed on April 6, 2001, and amended on April 25, 2001.

Applicant's Address: Three State Farm Plaza, Bloomington, IL 61710-0001.

Composite Deferred Series, Inc. [File No. 811-4962]

Summary: Applicant seeks an order declaring that it has ceased to be an investment company. On April 21, 2000, Applicant distributed all of its shares at net asset value to its sole shareholder in connection with Applicant's liquidation. Total expenses of approximately $4,000.00 were incurred in connection with the liquidation and were paid by WM Advisors, Inc.

Filing Date: The application was filed on February 1, 2001.

Applicant's Address: John T. West, c/o WM Advisors, Inc., 1201 Third Avenue, Suite 1400, Seattle, WA 98101.

For the Commission, by the Division of Investment Management, pursuant to delegated authority.
Margaret H. McFarland,
Deputy Secretary.

[FR Doc. 01-11087 Filed 5-2-01; 8:45 am]

BILLING CODE 8010-01-M